CONSUMER PRODUCT SAFETY COMMISSION

16 CFR Part 1407

Portable Generators; Final Rule; Labeling Requirements

AGENCY: Consumer Product Safety Commission.

ACTION: Final rule; correction.

SUMMARY: This document corrects Figures 1 and 3 of the final rule requiring manufacturers to label portable generators with performance and technical data related to performance and safety.

DATES: This correction is effective May 14, 2007 and applies to any portable generator manufactured or imported on or after that date.

FOR FURTHER INFORMATION CONTACT: Timothy P. Smith, Project Manager, Division of Human Factors, Directorate for Engineering Sciences, Consumer Product Safety Commission, 4330 East-West Highway, Bethesda, Maryland; telephone (301) 504-7691; or e-mail tsmith@cpsc.gov.

SUPPLEMENTARY INFORMATION:

The Correction

On January 12, 2007, the Commission issued a final rule requiring manufacturers to label portable generators with performance and technical data related to performance and safety. 72 FR 1443. Figures 1 and 3 of the final rule were incorrect. This notice corrects Figures 1 and 3 so that each reflects the requirements in the text of the final rule. For clarity, while Figure 2 remains unchanged, all three Figures are provided in this correction. Because this correction is a technical correction, notice and comment is unnecessary.¹

¹ Section 553(b)(3)(B) of the Administrative Procedure Act.

List of Subjects in 16 CFR Part 1407

Consumer protection, Labeling.

Accordingly, in rule FR Doc. 07-80 published January 12, 2007 (72 FR 1443), correct Figures 1 through 3 to part 1407 as published in 72 FR 1443 to read as follows:

Dated: January 12, 2007.
Todd Stevenson,
Secretary, Consumer Product Safety Commission.

[FR Doc. 07-193 Filed 1-17-07; 8:45 am]

BILLING CODE 6355-01-P